ENVIRONMENTAL PROTECTION AGENCY

[EPA-HQ-OPPT-2008-0758; FRL-8393-6]

U.S. Government’s Process for Obtaining Stakeholder Information for Chemicals Proposed for Addition to the Stockholm Convention on Persistent Organic Pollutants

AGENCY: Environmental Protection Agency (EPA).

ACTION: Notice.

SUMMARY: On behalf of the U.S. government agencies comprising the Interagency Working Group (IWG) on Persistent Organic Pollutants (POPs) (hereafter USG), EPA is issuing this notice to promote transparency, increase awareness of the proposals concerning chemicals for addition to the Stockholm Convention on Persistent Organic Pollutants (hereafter Convention), to make interested persons aware of the process for adding chemicals to the Convention, to indicate at which steps receiving comments or information from interested persons would be useful to the interagency process, and to indicate for those steps the type of information to be submitted and the due date. EPA is issuing this notice to ensure that the process for the review of chemicals proposed for addition to the Convention allows sufficient time for the submission and consideration of public comments on chemicals proposed for addition to the Convention. EPA, on behalf of USG, intends to issue future notices that alert interested persons to additional chemicals proposed for addition to the Convention and for which the approach to commenting described in this notice will be applied. EPA’s responsibility with respect to this process will be to ensure that comments received are considered by the Agency as part of its internal process and to ensure that comments received are made available to USG for their consideration.

DATES: All comments must be received no later than November 30, 2009. However, specific due dates for earlier responses can be found in Unit II.G.

ADDRESSES: Submit your comments, identified by docket identification (ID) number EPA-HQ-OPPT-2008-0758, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2008-0758. The DCO is open from 8 a.m. to 4 p.m., Monday through Friday, excluding legal holidays. The telephone number for the DCO is (202) 564-8930. Such deliveries are only accepted during the DCO’s normal hours of operation, and special arrangements should be made for deliveries of boxed information.

Instructions: Direct your comments to docket ID number EPA-HQ-OPPT-2008-0758. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA’s public docket, visit the EPA Docket Center homepage at http://www.epa.gov/epahome/dockets.htm.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office of Pollution Prevention and Toxics, Environmental Protection Agency, 1200 Pennsylvania Ave., NW., Washington, DC 20460-0001; telephone number: (202) 564-9823; e-mail address: breedlove.amy@epa.gov.

SUPPLEMENTARY INFORMATION:

I. General Information

A. Does this Action Apply to Me?

This action is directed to the public in general, and may be of particular interest to chemical substance and pesticide manufacturers, importers, and processors. Since other entities may also be interested, the Agency has not attempted to describe all the specific entities that may be affected by this action. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Procedures for preparing CBI. Procedures for preparing CBI information related to pesticides and industrial chemicals are in Unit I.B.1. Send CBI information about industrial chemicals using the submission procedures under ADDRESSES. Send CBI information about pesticides to: Kristen Hendricks, Field and External Affairs Division (7506P), Office of Pesticide Programs, Environmental Protection Agency, 1200 Pennsylvania Ave., NW., Washington, DC 20460-0001 or hand delivered Monday-Friday, excluding Federal holidays, between 9 a.m. and 5 p.m. to: Kristen Hendricks, Government and International Services Branch, Field and External Affairs Division, Office of Pesticide Programs, One Potomac Yard (South Bldg.), 2777 S. Crystal Dr., Rm. S11336, Arlington, VA 22202.

3. CBI to remain in the United States. Commenters should note that none of the CBI information received by EPA will be forwarded to the Secretariat of the Convention. Information from submissions containing CBI may be considered by relevant agencies in the development of the U.S. response. If commenters wish for USG to consider incorporating information in documents with CBI as part of the U.S. response, commenters should provide a sanitized copy of the documents. Sanitized copies must be complete, except that all information claimed as CBI must be deleted. EPA will place sanitized copies in the public docket.

4. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

Although the United States has not ratified the Convention, it has an opportunity, as an observer, to provide submissions for review. The Agency is issuing this notice on behalf of USG to increase awareness of the proposals concerning chemicals for addition to the Convention, to make interested persons aware of the process for adding chemicals to the Convention, to indicate at which steps receiving comments or information from interested parties would be useful to USG, and to indicate for those steps the type of information sought and the due date. EPA is issuing this notice in order to improve the process used for soliciting comments on chemicals being reviewed for addition to the Convention.

In the future, EPA, on behalf of USG, intends to issue a Federal Register notice when a chemical is first proposed by a nominating Party to alert interested persons and to solicit comments from interested persons at the intervals described in this notice. Since several months often elapse between steps in the nomination process, EPA will make a good faith effort to issue e-mail reminders of upcoming due dates to interested parties. Parties interested in receiving such e-mails should send an e-mail with their preferred e-mail address to the technical person listed under FOR FURTHER INFORMATION CONTACT. Persons interested in contacting EPA directly to discuss POPs related subject matter, should contact Karissa Taylor Kovner, Senior Policy Advisor for International Affairs (7101M), Office of the Assistant Administrator for Prevention, Pesticides and Toxic Substances, Environmental Protection Agency, 1200 Pennsylvania Ave., NW., Washington, DC 20460-0001; telephone number: (202) 564-0564; e-mail address: kovner.karissa@epa.gov.

B. What is the Agency's Authority for Taking this Action?

On behalf of USG, EPA is requesting comment and information under the authority of section 102(2)(F) of the National Environmental Policy Act, 42 U.S.C. 4321 et seq., which directs all agencies of the Federal Government to “[r]ecognize the worldwide and long-range character of environmental problems and, where consistent with the foreign policy of the United States, lend appropriate support to initiatives, resolutions and programs designed to maximize cooperation in anticipating and preventing a decline in the quality of mankind’s world environment.” Section 17(d)(1) of the Federal Insecticide, Fungicide and Rodenticide Act (FIFRA) also provides additional support in that it directs the Administrator of EPA “in cooperation with the Department of State and any other appropriate Federal agency, [to] participate and cooperate in any international efforts to develop improved pesticide research and regulations.”

C. What is the Stockholm Convention Chemical Listing Process?

The United States signed the Convention in May of 2001 but has not yet ratified it (and thus is not a Party to the Convention). The United States currently participates as an observer in Convention activities. The Convention, which went into force in May of 2004, requires the Parties to reduce or eliminate the production and use of a number of intentionally produced POPs, i.e., those listed in Annex A or B. The Convention also calls upon Parties to take certain specified measures to reduce releases of unintentionally produced POPs listed in Annex C with the goal of their continuing minimization and, where feasible, ultimate elimination. The Convention also imposes controls on the handling of POPs wastes and on trade in POPs chemicals.

In addition, there are certain procedures and science-based criteria that Parties to the Convention use when considering the addition of new chemicals to the Convention’s Annexes. Article 8 of the Convention provides the process to be followed for listing new chemicals in Annexes A, B, and/or C, and is described in summary in this unit:

1. A Party to the Convention may submit a proposal to the Secretariat for listing a chemical in Annexes A, B, and/or C. The proposal shall contain the information specified in Annex D of the Convention (“Information Requirements and Screening Criteria”).

2. The Secretariat verifies that the proposal contains the information specified in Annex D, and if the Secretariat is satisfied, the proposal is forwarded to the POPs Review Committee (hereafter POPRC).

3. POPRC examines the proposal, applies the Annex D screening criteria, and determines whether the screening criteria have been fulfilled.

4. If POPRC is satisfied that the criteria have been fulfilled, POPRC, through the Secretariat, will make the proposal and the POPRC’s evaluation available to all Parties and observers and invite them to submit the information specified in Annex E (“Information Requirements for the Risk Profiles”).

5. A draft risk profile is prepared by an ad hoc working group under POPRC in accordance with Annex E for consideration by POPRC and made available to all Parties and observers to collect technical comments. The penultimate final draft is distributed to obtain public comment from Parties and observers. The outline to be used in developing the risk profile can be found on the Convention website (http://www.pops.int).

6. POPRC reviews the final draft risk profile and technical comments, finalizes the risk profile, includes a determination as to whether the chemical is likely, as a result of its long-range environmental transport, to lead to significant adverse human health and/or environmental effects, such that global action is warranted.

7. If POPRC decides that the chemical is likely as a result of its long-range environmental transport to lead to significant adverse human health and/or environmental effects such that global action is warranted, then POPRC, through the Secretariat, will ask Parties and observers to provide information specified in Annex F (“Information on Socio-Economic Considerations”) to aid in the development of risk management evaluations (that include an analysis of possible control measures).

8. A draft risk management evaluation is prepared by an ad hoc working group under POPRC in accordance with Annex F for consideration by POPRC and made available to Parties and observers to collect technical comments. The penultimate final draft is distributed to obtain public comment from Parties and observers. The outline to be used in developing the risk management evaluation can be found on the Convention website.

9. POPRC reviews the draft risk management evaluation prepared by the ad hoc working group and finalizes it.

10. On the basis of the risk profile and risk management evaluation for each chemical, POPRC recommends whether the chemical should be considered by the Conference of the Parties (COP) for listing in Annexes A, B, and/or C, depending on the control measures.

11. Parties may be asked by the Secretariat, prior to the COP meeting, to provide any specific concerns they have regarding listing a chemical in a particular annex.

12. COP makes the final decision whether to list the chemical in Annexes A, B, and/or C.

D. What is the Purpose and Content of a Risk Profile?

Risk profiles, as noted in Annex E of the Convention, “evaluate whether the chemical is likely, as a result of its long-range environmental transport, to lead to significant adverse human health and/or environmental effects, such that global action is warranted.” The risk profile also further evaluates and elaborates on the information referred to in Annex D of the Convention and includes, as far as possible, the information listed in Annex E.

E. What is the Purpose and Content of a Risk Management Evaluation?

Risk management evaluations include an analysis of possible control measures, which in accordance with Annex F of the Convention (“Information on Socio-Economic Considerations”) should encompass “the full range of options, including management and elimination.” The risk management evaluation includes socio-economic considerations associated with possible control measures and reflects due regard for the differing capabilities and conditions among the Parties. Additionally, the document should discuss any specific exemptions or acceptable purposes being considered.

F. Where can Information on the Convention’s Activities be Found?

1. Previous Federal Register notices used to notify interested parties of Convention activities and solicit comments, draft documents for comment, and stakeholder comments can be found in docket EPA-HQ-OPPT-2006-0794.

2. The Convention website is the location of all the chemical proposals, risk profiles, risk management evaluations, information and comments submitted by Parties and observers, meeting documents, etc.

i. Information such as the Secretariat’s invitation letters, requests for information, and outlines for the risk profiles and risk management evaluations, can be found on the Convention website by selecting the tab for Convention, selecting POPRC, and then selecting Information Requests.

ii. Meeting documents can be found by selecting:

a. The Convention tab.

b. POPRC (or COP).

c. Meetings.

d. The particular meeting needed.

iii. Submissions from Parties and observers of Annex E information, etc., can be found by selecting:

a. Convention.

b. POPRC.

c. Submissions (yr).

d. The type of information being looked for.

iv. Copies of the risk profiles, risk management evaluations, and new proposals can be found by selecting:

a. Convention.

b. POPRC.

c. Chemicals under review.

G. At What Stages Would Input or Comments be Useful to USG?

1. Annex E and F related information solicitation stage. Typically, several weeks after the Fall POPRC meeting, the Secretariat invites Parties and observers to submit to POPRC (via the Secretariat) information specified in Annex E and/or Annex F of the Convention, and other relevant information for the chemicals proposed for addition to the Convention. The Secretariat has posted the request for Annex E information, in follow-up to the meeting of POPRC 4 in October 2008, on the website with a due date of January 9, 2009. The information collected will be considered by POPRC in its development of the risk profile and/or risk management evaluation for each chemical. Some Secretariat invitations to submit information are directed only to Parties, other invitations are open to Parties and observers. Often the information being requested by the Secretariat is not readily available to EPA or other relevant agencies, and therefore stakeholder input can be quite useful. USG will consider the information it receives for Annex E and Annex F and use it to inform the U.S. submission to the Secretariat as appropriate, as well as during the review of the resulting draft risk profiles and risk management evaluations. EPA requests that any information be submitted to USG using the instructions in Unit I no later than 20 calendar days prior to the Secretariat’s posted due date in order to meet POPRC’s deadline for the submission of Annex E/F and related information. Individuals or organizations that wish to submit information directly to POPRC via the Secretariat should work through their respective observer organizations, if any.

2. Draft risk profile/risk management evaluation stage. The Secretariat typically posts draft risk profiles and draft risk management evaluations for comment by Parties and observers on the Convention website in April, and invites comments to be submitted within 5-6 weeks of the posting date. In 2009, the Secretariat plans to make the draft documents available on the website in early-to-mid April with comments due back to the Secretariat no later than late May. The risk profile and risk management evaluation documents should contain specifics about production, uses, releases, monitoring data, technical feasibility of alternatives, costs, etc.; consequently, USG finds value in comments from interested persons who can provide, or assess, such information. Also useful are stakeholder comments on the synthesis and conclusion sections of the document. EPA requests that comments or information be submitted through this process no later than 15 calendar days prior to the Secretariat’s posted deadline in order to provide time for the relevant agencies to consider the comments before the U.S. government provides its response to the Secretariat.

3. Prior to POPRC/COP meetings. The Secretariat posts documents, including the final draft risk profiles and risk management evaluations, on the Convention website to be discussed at upcoming POPRC or COP meetings typically 1-2 months prior to the meeting. In 2009, the Secretariat plans to post documents for POPRC 5 on the website by the end of August. If interested parties wish to submit any written comments regarding those documents to USG, comments should be received by EPA no later than 20 calendar days prior to the meeting. Any comments received will be used to inform the U.S. position on issues to be discussed at the meeting. Separate from the risk profile/risk management evaluation process, EPA expects the Secretariat to post meeting documents for COP 4 by early April 2009.

H. What Information is Needed for Chemicals Entering the Annex E Stage?

1. USG seeks information that is supplementary to the information in the proposals and POPRC’s evaluation of the proposals against the Annex D screening criteria. The proposals and the evaluations are available on the Convention website.

2. Commenters are invited to provide information they deem relevant to POPRC’s development of risk profiles, such as that specified in Annex E of the Convention and other related information, as described in paragraphs i. through v. of this unit:

i. Sources, including as appropriate:

a. Production data, including quantity and location.

b. Uses.

c. Releases, such as discharges, losses, and emissions.

ii. Hazard assessment for the endpoint or endpoints of concern (as identified in the proposals and/or POPRC’s evaluation of the proposals against the screening criteria of Annex D), including a consideration of toxicological interactions involving multiple chemicals.

iii. Environmental fate, including data and information on the chemical and physical properties of a chemical as well as its persistence and how they are linked to its environmental transport, transfer within and between environmental compartments, degradation, and transformation to other chemicals. (POPRC is to make a determination of the bioconcentration factor or bio-accumulation factor, based on measured values, available, except when monitoring data are judged to meet this need.)

iv. Monitoring data.

v. Exposure in local areas and, in particular, as a result of long-range environmental transport, and including information regarding bio-availability.

I. What Information is Needed for Chemicals Entering the Annex F Stage?

1. For the chemicals entering the risk management stage, USG seeks information that is supplementary to the information provided during previous stages in the review process; i.e., information relevant to Convention Annexes D and E; the proposals, evaluations and risk profiles. These documents, as well as the Secretariat’s letter soliciting information, can be found on the Convention website.

2. When providing information, keep in mind that the possible control measures under the Convention include, among others, the prohibition or severe restriction of production and use. The provision of accurate, high quality information is a priority for POPRC’s evaluation.

3. Commenters are invited to provide information they deem relevant to POPRC’s development of the risk management evaluation, such as that specified in Annex F of the Convention and other related information, as described in paragraphs i. through viii. of this unit. Summary information and relevant references should be provided for:

i. Efficacy and efficiency of possible control measures in meeting risk reduction goals:

a. Describe possible control measures.

b. Technical feasibility.

c. Costs, including environmental and health costs.

ii. Alternatives (products and processes):

a. Describe alternatives.

b. Technical feasibility.

c. Costs, including environmental and health costs.

d. Efficacy.

e. Risk.

f. Availability.

g. Accessibility.

iii. Positive and/or negative impacts on society of implementing possible control measures:

a. Health, including public, environmental and occupational health.

b. Agriculture, including aquaculture and forestry.

c. Biota (biodiversity).

d. Economic aspects.

e. Movement towards sustainable development.

f. Social costs.

iv. Waste and disposal implications (in particular, obsolete stocks of pesticides and clean-up of contaminated sites):

a. Technical feasibility.

b. Cost.

v. Access to information and public education.

vi. Status of control and monitoring capacity.

vii. Any national or regional control actions taken, including information on alternatives, and other relevant risk management information.

viii. Other relevant information for the risk management evaluation.

III. History of Proposed Chemicals to Date

A. First Five Chemicals Proposed

The first meeting of POPRC (POPRC 1) took place November 7-11, 2005, in Geneva, Switzerland. Information about the Convention, POPRC meetings, and the meeting reports are available on the Convention website. Five chemical proposals were submitted for consideration for addition to Annexes A, B, and/or C of the Convention. Three of the five proposals were for industrial chemicals:

• Pentabromodiphenyl ether (PeBDE).

• Hexabromobiphenyl (HBB).

• Perfluorooctane sulfonate (PFOS).

Two of the five proposals were for pesticides:

• Lindane.

• Chlordecone.

With regard to all five chemicals, POPRC decided that it was satisfied that the screening criteria had been fulfilled and that further work should therefore be undertaken to develop risk profiles for the five chemicals. Therefore, POPRC, through the Secretariat, requested that Parties and observers provide information, per Annex E, relevant to POPRC’s development of risk profiles for the five chemicals listed in this unit. See the Federal Register notice of January 30, 2006 (71 FR 4913) (FRL-7758-9) for additional information.

The second meeting of POPRC (POPRC 2) took place on November 6-10, 2006, in Geneva, Switzerland. See the Federal Register notice of October 6, 2006 (71 FR 59108) (FRL-8099-2) for additional information. Information about POPRC 2 is also available on the Convention website. At that meeting, risk profiles were considered for the five previously proposed chemicals and POPRC decided that these chemicals were likely, as a result of their long-range environmental transport, to lead to significant adverse human health and environmental effects such that global action is warranted. Consequently, the five chemicals were moved forward to the next step in the listing process. In the Federal Register notice of December 20, 2006 (71 FR 76325) (FRL-8109-1), EPA invited commenters to provide information, per Annex F, to support the development of risk management evaluations. That information collection step was followed by the development of risk management evaluations. These risk management evaluations were then considered by POPRC 3 in November 2007. At POPRC 3, for commercial PeBDE, chlordecone, HBB, lindane, and PFOS, POPRC completed its review of the available documents, considered the possible control measures, the available social and economic information, and comments and information submitted by Parties and observers relating to the considerations specified in Annex F. POPRC decided to recommend to COP, in accordance with paragraph 9 of Article 8 of the Convention, that COP consider listing the chemicals in Unit III.A., with some modifications, in the Convention. Parties were invited to notify the Secretariat of any relevant issues they wish to raise to COP. Additional information on production, use, and alternatives for PFOS was also requested.

B. Second Five Chemicals Proposed

Also at POPRC 2, five new chemicals were submitted for consideration for addition to the Convention.

1. Two of the five proposals were for industrial chemicals:

i. Commercial octabromodiphenyl ether (c-octaBDE).

ii. Short-chained chlorinated paraffins (SCCPs).

2. One of the five proposals was for a chemical with both industrial and pesticidal uses: Pentachlorobenzene (PeCB).

3. Two of the five proposals were for pesticides:

i. Alpha-hexachlorocyclohexane (alpha-HCH).

ii. Beta-hexachlorocyclohexane (beta-HCH).

EPA provided notice of POPRC 2 and POPRC’s intention to consider proposals for the five chemicals listed in this unit in the October 6, 2006 Federal Register notice. Additional information about the POPRC 2 meeting is available on the Convention website. POPRC 2 decided that the Annex D screening criteria had been fulfilled and requested that Parties and observers provide information, per Annex E, relevant to development of risk profiles for the five chemicals listed in this unit. POPRC 2 also requested additional information on the environmental fate of SCCPs or information relating to their properties which would enable a more comprehensive evaluation of their environmental fate. In the December 20, 2006 Federal Register notice, EPA invited commenters to provide information, per Annex E, for the development of risk profiles. Risk profiles were developed and presented in November 2007 for the consideration by POPRC 3.

In accordance with the procedure in Article 8 of the Convention, POPRC 3 examined the risk profiles for the chemicals in this unit and decided that the chemicals, except for SCCPs, are likely, as a result of their long-range environmental transport, to lead to significant adverse human health and/or environmental effects such that global action is warranted. POPRC 3 directed the collection of information, per Annex F, to be used in the development of the risk management evaluations and also requested additional information related to commercial octaBDE and its congeners, and PeCB. Initial draft risk management evaluations were developed during the spring of 2008 for consideration at POPRC 4 in October 2008. At POPRC 4, the risk management evaluations for c-octaBDE, PeCB, alpha-HCH, and beta-HCH were approved. POPRC decided to recommend, for c-octaBDE, that COP consider listing in Annex A hexa- and heptaBDEs present in c-octaBDE, using BDE-153, BDE-154, BDE-175, and BDE-183 as markers for enforcement purposes. For PeCB, it was decided to recommend to COP that the substance be listed in Annexes A and C. POPRC also decided to recommend to COP that it consider listing alpha- and beta-HCH in Annex A, giving due consideration to the by-production of these substances from the production of lindane. Those recommendations are expected to be presented to COP 4 in May 2009.

The draft risk profile for SCCPs was also examined at POPRC 3, but POPRC considered the information available to be insufficient to support the Convention Annex E-related decision that the chemical is likely as a result of its long-range environmental transport to lead to significant adverse human health and/or environmental effects such that global action is warranted and therefore did not agree upon a risk profile for the chemical. POPRC agreed to the further development of the risk profile, asked Parties and observers for additional information for the SCCP risk profile, and delayed the Convention Annex E- related decision on SCCPs to POPRC 4. A revised risk profile was prepared for consideration at POPRC 4. POPRC 4 agreed to consider the risk profile, as revised, at POPRC 5.

C. Newest Chemicals Proposed

In the period between POPRC 3 and POPRC 4, two additional chemicals were proposed for consideration to be listed in Annex A, B, and/or Annex C to the Convention. Proposals were submitted for endosulfan, a pesticide, and for hexabromocyclododecane (HBCDD), an industrial chemical. The Secretariat reviewed the proposals and verified that they contain the information specified in Annex D. Those evaluations are posted on the Convention website. At POPRC 4, it was decided to not take action on the HBCDD proposal since the relevant documentation was not submitted sufficiently in advance of the meeting. POPRC 5 will consider the HBCDD proposal. Regarding the endosulfan proposal, POPRC 4 decided that alpha endosulfan, beta endosulfan, and technical endosulfan, fulfill the screening criteria, established a working group to prepare a draft risk profile in accordance with Annex E of the Convention, and invited Parties and observers to submit the information specified in Annex E to the Secretariat.

List of Subjects

Environmental protection, Chemicals, Hazardous substances.

Dated: December 1, 2008.
James B. Gulliford,
Assistant Administrator, Office of Prevention, Pesticides and Toxic Substances.

[FR Doc. E8-28982 Filed 12-5-08; 8:45 am]

BILLING CODE 6560-50-S